COMMODITY FUTURES TRADING COMMISSION

Sunshine Act Meetings

TIME AND DATE: 12:00 noon EDT, Monday, June 26, 2023.

PLACE: Virtual meeting.

STATUS: Open.

MATTERS TO BE CONSIDERED: The Commodity Futures Trading Commission (“Commission” or “CFTC”) will hold this meeting to consider the commencement of a 90-day review, pursuant to CFTC Regulation 40.11(c), of KalshiEX, LLC congressional control contracts.

The agenda for this meeting will be available to the public and posted on the Commission's website at https://www.cftc.gov. Instructions for public access to the live feed of the meeting will also be posted on the Commission's website. In the event that the time, date, or place of this meeting changes, an announcement of the change, along with the new time, date, or place of the meeting, will be posted on the Commission's website.

CONTACT PERSON FOR MORE INFORMATION: Christopher Kirkpatrick, Secretary of the Commission, 202-418-5964.

(Authority: 5 U.S.C. 552b.)

Dated: June 16, 2023.
Christopher Kirkpatrick,
Secretary of the Commission.

[FR Doc. 2023-13350 Filed 6-20-23; 11:15 am]

BILLING CODE 6351-01-P